DEPARTMENT OF TRANSPORTATION

Federal Aviation Administration

Aviation Rulemaking Advisory Committee—New Task (Part 145 Working Group)

AGENCY: Federal Aviation Administration (FAA), DOT.

ACTION: Notice of a new task assignment for the Aviation Rulemaking Advisory Committee (ARAC) and solicitation of membership applicants.

SUMMARY: The FAA has assigned the Aviation Rulemaking Advisory Committee (ARAC) a new task to provide recommendations regarding the agency's guidance on the certification and oversight of all part 145 repair stations. This notice informs the public of the new ARAC activity and solicits membership for the new Part 145 Working Group.

FOR FURTHER INFORMATION CONTACT: Paul M. Cloutier, Federal Aviation Administration, AFS-300, 800 Independence Avenue SW, Washington, DC 20591, paul.m.cloutier@faa.gov, (858) 999-7671, (202) 267-1812.

SUPPLEMENTARY INFORMATION:

ARAC Acceptance of Task

As a result of its December 14, 2017, ARAC meeting, the ARAC accepted this tasking to establish a Part 145 Working Group. The Part 145 Working Group will serve as staff to the ARAC and provide advice and recommendations on the assigned task. The ARAC will review and accept the initial and final recommendation reports and will submit them to the FAA.

Background

The FAA established the ARAC to provide information, advice, and recommendations on aviation-related issues to the FAA Administrator, through the Associate Administrator of Aviation Safety.

The FAA recognizes the critical role that guidance documents play. Well-designed guidance documents serve many important functions both within an organization and externally to the regulatory programs they support. While guidance documents do not have the force of law in the way regulations do, they are often heavily relied on internally to establish, issue, and describe agency policy, responsibilities, methods, and procedures. When guidance documents do not reflect current regulatory requirements and FAA, AVS, and AFS policies, the outcome is an uneven and inconsistent application of agency guidance and standards. The Part 145 Working Group will provide recommendations to the FAA to support the goal of consistent and clear guidance documents.

Additionally, the agency's policies advocate performance-based oversight. However, guidance documents, particularly those directed at the agency's workforce are often prescription based. The Part 145 Working Group is asked to provide recommendations that will support the applicant's performance-based decision making and the agency's evaluation of those decisions.

The Tasks

The Working Group is tasked to:

(1) Perform a comprehensive review of internal and external guidance material, in relation to the current laws and regulations, that pertain to certificating and overseeing all part 145 repair stations. This review will include pertinent—

(a) FAA Orders, Notices, Advisory Circulars, Job Aids and Safety Assurance System (SAS) Data Collection Tools.

(b) Laws and executive orders, particularly those associated with inclusion of small business and paperwork reduction act requirements in agency policy and guidance.

(2) Develop recommendations on improvements to—

(a) Internal and external guidance material to ensure it is:

(i) Aligned and compliant with the aviation safety regulations, other laws and executive orders reviewed in (1)(b).

(ii) Annotated to the applicable rule, other law or executive order; and,

(iii) Consistently numbered to ensure a comprehensive relationship between the guidance document and the annotated rule, law or executive order.

(iv) Developed to communicate the agency's expectations for compliance to the public and the FAA workforce in a comprehensive and consistent manner, including the tools necessary to ensure the application and evaluation of compliance includes performance-based oversight.

(b) Oversight by the FAA's domestic and foreign workforce vis-à-vis the amount, type, scope, and complexity of work being performed and the certificate holders' size.

(3) Develop a preliminary and final report containing recommendations based on the analysis and findings. The reports should document both majority and dissenting positions on the recommendations and the rationale for each position. Disagreements should be documented, including the reason and rationale for each position.

The working group may be reinstated to assist the ARAC in responding to the FAA's questions or concerns after the recommendation report has been submitted.

Schedule

The preliminary and final recommendation reports will be submitted to the ARAC for review, acceptance, and submission to the FAA. The preliminary report is to be submitted no later than 24 months from the first meeting of the Part 145 Working Group. The final report will be submitted no later than 12 months after the preliminary report is forwarded to the FAA by ARAC.

Working Group Activity

The Part 145 Working Group must comply with the procedures adopted by the ARAC, which are as follows:

1. Conduct a review and analysis of the assigned tasks and any other related materials or documents.

2. Draft and submit a work plan for completion of each task, including the rationale supporting such a plan, for consideration by the ARAC.

3. Provide a status report at each ARAC meeting.

4. Draft and submit the preliminary and final recommendation reports based on the review and analysis of the assigned tasks.

5. Present the preliminary and final recommendation reports to the ARAC at a scheduled meeting for public discussion.

Participation in the Working Group

The Working Group will be comprised of technical and regulatory experts having an interest in the assigned task. A working group member need not be a member representative of the ARAC. The FAA would like a wide range of stakeholders to ensure all aspects of the tasks are considered in development of the recommendations.

The provisions of the August 13, 2014, Office of Management and Budget guidance, “Revised Guidance on Appointment of Lobbyists to Federal Advisory Committees, Boards, and Commissions” (79 FR 47482), continues the ban on registered lobbyists participating on Agency Boards and Commissions if participating in their “individual capacity.” The revised guidance now allows registered lobbyists to participate on Agency Boards and Commissions in a “representative capacity” for the “express purpose of providing a committee with the views of a nongovernmental entity, a recognizable group of persons or nongovernmental entities (an industry, sector, labor unions, or environmental groups, etc.) or state or local government.” (For further information see Lobbying Disclosure Act of 1995 as amended, 2 U.S.C. 1603, 1604, and 1605.)

If you wish to become a member of the Part 145 Working Group, contact the person listed under the caption FOR FURTHER INFORMATION CONTACT expressing that desire. Describe your interest in the task and state the expertise you would bring to the deliberations.

The FAA must receive all requests by February 20, 2018. The ARAC and the FAA will review the requests and advise you whether or not your request is approved.

If you are chosen for membership on the working group, you must actively participate by attending all meetings, and providing written information when requested. You must devote the resources necessary to support the working group in meeting assigned deadlines. You must keep your management and those you may represent advised of working group activities and decisions to ensure the proposed solutions do not conflict with the position of those you represent. Once the working group has begun deliberations, members will not be added or substituted without the approval of the ARAC Chair, the FAA, including the Designated Federal Officer, and the Working Group Chair.

The Secretary of Transportation determined the formation and use of the ARAC is necessary and in the public interest in connection with the performance of duties imposed on the FAA by law.

Confidential Information

All final work products submitted to ARAC are public documents. Therefore, it should not contain any non-public proprietary, privileged, business, commercial, and other sensitive information (collectively, Confidential Information) that the working group members would not want to be publicly available. With respect to working groups, there may be instances where members will share Commercial Information within the working group for purposes of completing an assigned tasked. Members must not disclose to any third party, or use for any purposes other than the assigned task, any and all Confidential Information disclosed to one party by the other party, without the prior written consent of the party whose Confidential Information is being disclosed. All parties must treat the Confidential Information of the disclosing party as it would treat its own Confidential Information, but in no event shall it use less than a reasonable degree of care. If any Confidential Information is shared with the FAA representative on a working group, it must be properly marked in accordance with the Office of Rulemaking Committee Manual, ARM-001-15.

Issued in Washington, DC, on January 11, 2018.
Lirio Liu,
Designated Federal Officer, Aviation Rulemaking Advisory Committee.

[FR Doc. 2018-00819 Filed 1-17-18; 8:45 am]

BILLING CODE 4910-13-P